DEPARTMENT OF TRANSPORTATION

Federal Aviation Administration

[Summary Notice No. PE-2000-05]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 20, 2000.

ADDRESSES: Send comments on any petition in triplicate to: Federal Aviation Administration, Office of the Chief Counsel, Attn: Rule Docket (AGC-200), Petition Docket No. , 800 Independence Avenue, SW., Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271 or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC on February 23, 2000.
Donald P. Byrne,
Assistant Chief Counsel for Regulations.

Petitions For Exemption

Docket No.: 29798.

Petitioner: Frontier Airlines, Inc.

Section of the FAR Affected: 14 CFR 121.391(a)(4).

Description of Relief Sought: To permit Frontier to use two flight attendants aboard airplanes configured with more than 100 seats when (1) a third flight attendant becomes unable to perform his or her duties and a replacement flight attendant cannot be made available without a lengthy delay and (2) all seats in excess of 100 are blocked from use.

Docket No.: 29893.

Petitioner: The Boeing Company.

Section of the FAR Affected: 14 CFR 25.335(e)(3).

Description of Relief Sought: To allow design flap speeds, VF, for the MD-17, to be calculated based on a power-on stall speed with the critical engine inoperative and the operative engines at the power setting appropriate for the flight condition.

Docket No.: CE157.

Petitioner: Schwans Sales Enterprises.

Section of the FAR Affected: 14 CFR 23.851 and CAR 4a.532(j).

Description of Relief Sought: To permit the Red Baron Stearman Squadron to operate six Vintage Boeing Stearmans without either fire extinguishers or the mounting hardware for a fire extinguisher.

Docket No.: 29739.

Petitioner: Bombardier Services Corporation.

Section of the FAR Affected: 14 CFR 145.35(c) and 145.37(b).

Description of Relief Sought: To permit Bombardier to operate satellite repair stations in Asheville, North Carolina; Charleston, West Virginia; and Newburgh, New York, without meeting all the housing and facility requirements of §§ 145.35 and 145.37.

Dispositions of Petitions

Docket No.: 29217.

Petitioner: Dwight Reber.

Section of the FAR Affected: 14 CFR 21.25(a)(2) and 133.19(a)(1).

Description of Relief Sought/Disposition: To permit Mr. Reber to operate two Russian military Kamov Ka-25 (Ka-25) helicopters in the restricted category and conduct Class A, Class B, and Class C rotorcraft external-load combination operations. DENIAL, 11/16/99, Exemption No. 7076.

Docket No.: 29335.

Petitioner: AlliedSignal, Inc.

Section of the FAR Affected: 14 CFR 21.325(b)(30).

Description of Relief Sought/Disposition: To permit AES Tempe to issue export airworthiness approval tags for Class II and Class III products manufactured in Singapore by its AES Singapore facility as an approved supplier to AES Tempe under AES Tempe's PMA No. PQ1222NM. GRANT, 11/17/99, Exemption No. 7075.

Docket No.: 29118.

Petitioner: Homestead Helicopters, Inc.

Section of the FAR Affected: 14 CFR 135.143(c)(2).

Description of Relief Sought/Disposition: To permit Homestead to operate its Robinson R44 helicopter (Registration No. N8372H, Serial No. 0387) under part 135 without a TSO-C112 (Mode S) transponder installed. GRANT, 10/28/99, Exemption No. 6733A.

Docket No.: 27052.

Petitioner: Petroleum Helicopters, Inc.

Section of the FAR Affected: 14 CFR 135.143(c)(2).

Description of Relief Sought/Disposition: To permit PHI to operate its Bell Model 206L-1 helicopters (Registration Nos. N2761X, N5005B, N50046, and N50182; Serial Nos. 45283, 45175, 45173, and 45242, respectively) under part 135 without a TSO-C112 (Mode S) transponder installed on those aircraft. GRANT, 10/28/99, Exemption No. 5586C.

Docket No.: 29658.

Petitioner: Sunrise Airlines, Inc.

Section of the FAR Affected: 14 CFR 135.143(c)(2).

Description of Relief Sought/Disposition: To permit Sunrise to operate certain aircraft under part 121 or part 135 without a TSO-C112 (Mode S) transponder installed in the aircraft. GRANT, 10/28/99, Exemption No. 7061.

Docket No.: 29756.

Petitioner: ExecuJet Charter Service, Inc.

Section of the FAR Affected: 14 CFR 135.143(c)(2).

Description of Relief Sought/Disposition: To permit ExecuJet to operate its Hawker Model DH 125-400A aircraft (Registration No. N810HS, Serial No. 25271) under part 135 without a TSO-C112 (Mode S) transponder installed in the aircraft. GRANT, 10/28/99, Exemption No. 7064.

[FR Doc. 00-4638 Filed 2-25-00; 8:45 am]

BILLING CODE 4910-13-M